DEPARTMENT OF STATE

[Public Notice: 9581]

Notice of Public Meeting

The Department of State will conduct an open meeting at 9:00 a.m. on June 15, 2016, in Room 5L18-01 of the Douglas A. Munro Coast Guard Headquarters Building at St. Elizabeth's, 2703 Martin Luther King Jr. Avenue SE., Washington, DC 20593. The primary purpose of the meeting is to prepare for the one hundred and sixteenth session of the International Maritime Organization's (IMO) Council to be held at the IMO Headquarters, United Kingdom, July 4-8, 2016.

The agenda items to be considered include:

—Adoption of the agenda

—Election of the Vice-Chairman

—Report of the Secretary-General on credentials

—Strategy, planning and reform

—Resource management (Human resource matters, accounts and audit, report on investments, report on arrears of contributions and of advances to the Working Capital Fund and implementation of Article 61 of the IMO Convention, budget considerations for 2016)

—IMO Member State Audit Scheme

—Consideration of the report to the Maritime Safety Committee

—Consideration of the report of the Facilitation Committee

—Consideration of the report of the Legal Committee

—Consideration of the report of the Marine Environmental Protection Committee

—World Maritime University (report of the Board of Governors and budget)

—Protection of vital shipping lanes

—Periodic review of administrative requirements in mandatory IMO instruments

—Principles to be considered in the review of existing requirements and the development of new requirements

—External relations (With the U.N. and the specialized agencies, Joint Inspection Unit, relations with intergovernmental organizations, relations with non-governmental organizations, World Maritime Day, International Maritime Prize, IMO Award for Exceptional Bravery at Sea, report on Day of the Seafarer 2016)

—Report on the status of the convention and membership of the Organization

—Report on the status of conventions and other multilateral instruments in respect of which the Organization performs functions

—Place, date and duration of the next two sessions of the Council (C 117 and C 118)

—Supplementary agenda items, if any

Members of the public may attend this meeting up to the seating capacity of the room. To facilitate the building security process, and to request reasonable accommodation, those who plan to attend should contact the meeting coordinator, LT Anne Besser, by email at Anne.E.Besser@uscg.mil, by phone at (202) 372-1362, by fax at (202) 372-1925, or in writing at 2703 Martin Luther King Jr. Ave. SE. Stop 7509, Washington, DC 20593-7509 not later than June 8, 2016. Requests made after June 8, 2016 might not be able to be accommodated. Please note that due to security considerations, two valid, government issued photo identifications must be presented to gain entrance to Coast Guard Headquarters. It is recommended that attendees arrive to Coast Guard Headquarters no later than 30 minutes ahead of the scheduled meeting for the security screening process. Coast Guard Headquarters is accessible by taxi and public transportation. Parking in the vicinity of the building is extremely limited. You may participate in the meeting virtually by calling (202) 475-4000 or 1-855-475-2447, Participant code: 887 809 72.

In the case where the Federal Government is closed or delayed, the public meeting may solely be conducted virtually. The meeting coordinator will confirm whether the virtual public meeting will be utilized by posting an announcement at: www.uscg.mil/imo/. Members of the public can find out whether the Federal Government is delayed or closed by visiting www.opm.gov/status/. Additional information regarding this and other IMO public meetings may be found at: www.uscg.mil/imo.

Dated: May 12, 2016.
Jonathan W. Burby,
Coast Guard Liaison Officer, Office of Ocean and Polar Affairs, Department of State.

[FR Doc. 2016-12374 Filed 5-24-16; 8:45 am]

BILLING CODE 4710-09-P